DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995 44, U.S.C. 3506(c)(2)(A). Currently, the Community Development Financial Institutions (CDFI) Fund, Department of the Treasury, is soliciting comments concerning the Native American CDFI Assistance (NACA) Application.

DATES: Written comments should be received on or before May 10, 2010 to be assured of consideration.

ADDRESSES: Direct all comments to Ruth Jaure, CDFI/NACA Program Manager, at the Community Development Financial Institutions Fund, U.S. Department of the Treasury, 601 13th Street, NW., Suite 200 South, Washington, DC 20005, by e-mail to cdfihelp@cdfi.treas.gov or by facsimile to (202) 622-7754. Please note this is not a toll free number.

FOR FURTHER INFORMATION CONTACT: The NACA Application may be obtained from the Native Initiatives page of the CDFI Fund's Web site at http://www.cdfifund.gov. Requests for additional information should be directed to Ruth Jaure, CDFI/NACA Program Manager, Community Development Financial Institutions Fund, U.S. Department of the Treasury, 601 13th Street, NW., Suite 200 South, Washington, DC 20005, or call (202) 622-9156. Please note this is not a toll free number.

SUPPLEMENTARY INFORMATION:

Title: Native American CDFI Assistance (NACA) Program Application.

OMB Number: 1559-0025.

Abstract: Through NACA, the CDFI Fund provides Financial Assistance (FA) awards to Native CDFIs whose Comprehensive Business Plans demonstrate community development impact. Impact is measured through the deployment of credit, capital, and financial services to the applicant's Target Markets or an expansion into new Investment Areas, Low-Income Targeted Populations, or Other Targeted Populations.

The CDFI Fund also provides Technical Assistance (TA) grants to certified CDFIs, Sponsoring Entities (such as Tribal governments), and other organizations proposing to become Native CDFIs in order to build their capacity to better address the community development and capital access needs of their existing or proposed Target Markets and/or to become certified CDFIs. The regulations governing the CDFI Program are found at 12 CFR part 1805 and provide guidance on evaluation criteria and other requirements of NACA.

The questions that the application contains, and the information generated thereby, will enable the CDFI Fund to evaluate applicants' activities and determine the extent of applicants' eligibility for a NACA award. Failure to collect this information could result in improper uses of Federal funds.

Current Actions: Extension of a currently approved collection.

Type of Review: Regular Review.

Affected Public: Certified NACA CDFIs and entities seeking NACA CDFI Certification.

Estimated Number of Respondents: 100

Estimated Annual Time per Respondent: 100 hours

Estimated Total Annual Burden Hours: 10,000 hours

Requests for Comments: Comments submitted in response to this notice will be summarized and/or included in the request for Office of Management and Budget approval. All comments will become a matter of public record and may be published on the CDFI Fund website at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

The CDFI Fund specifically requests comments concerning the following: (1) Whether offering separate applications for the FA and TA components would reduce the burden on applicants; (2) if an applicant eligibility screen should be applied before the application deadline, allowing applicants to determine beforehand if they would be qualified to receive an award; (3) if detailed Matching Funds documentation should be collected later in the application review process, and if the Matching Funds documentation is to be collected, what is a reasonable amount of time to expect an applicant to provide this data; (4) the merit of reducing the narrative page limits in the application; (5) the potential burden of requiring specific documents to support proposed uses of TA funds, namely Statements of Work for professional services, and resumes and/or position descriptions for personnel; and (6) the potential burden of requiring additional documentation to support the application, namely tax returns (Form 990), Certificates of Good Standing, operating budgets, lists of sources of capital, rate sheets for products and services, and borrower characteristic profiles.

Authority: 12 CFR part 1805.

Dated: March 3, 2010.
Donna J. Gambrell,
Director, Community Development Financial Institutions Fund.

[FR Doc. 2010-5158 Filed 3-10-10; 8:45 am]

BILLING CODE 4810-70-P